SMALL BUSINESS ADMINISTRATION (SBA)

Office of Chief Financial Officer (OCFO); Notice of Intent To Establish the U.S. Small Business Administration's Audit and Financial Management Advisory Committee and Request for Membership Applications

SUMMARY: The U.S. Small Business Administration (SBA) announces its intent to establish the Audit and Financial Management Advisory Committee (AFMAC or “the Committee”). Accordingly, the SBA publishes this notice in compliance with the Federal Advisory Committee Act, as amended, (FACA) (Pub. L 92-463-5 U.S.C. App. 2). The purpose of AFMAC is to provide recommendations and advice regarding the Agency's financial management including the financial reporting process, systems of internal controls, audit process, and process for monitoring compliance with relevant laws and regulations. The SBA Administrator has determined that the establishment of the Committee is in the public interest because it supports proper disclosure and transparency of SBA's financial management. SBA requests applications from qualified individuals and organizations to serve on the Committee. All notices for AFMAC meetings will be published in the Federal Register.

FOR FURTHER INFORMATION CONTACT: For additional information or a membership application, contact Thomas A. Dumaresq, Chief Financial Officer, 409 Third Street, SW.; telephone (202) 205-6449.

SUPPLEMENTARY INFORMATION: AFMAC shall be comprised of at least three members, including one Chairperson, as determined by the SBA's Administrator, who are free from any relationship that would interfere with the exercise of independent judgment as a member of the Committee. Committee membership must be fairly balanced and diverse in terms of occupational background and type of financial expertise. Committee members must have sufficient financial knowledge and experience to enable them to discharge the AFMAC's duties. Each member must be able to: (i) Understand federal financial statements; and (ii) recognize factors affecting the quality of SBA's financial reporting as a basis to make meaningful recommendations about the agencies audited financial statements and related financial management policy. SBA will view very favorably candidates possessing a broad accounting background, extensive financial management expertise, and/or significant experience with federal financial management.

Any qualified individual or organization interested in serving on the Committee should contact SBA for a membership application.

Scott R. Morris,
Deputy Chief of Staff.

[FR Doc. 03-23115 Filed 9-10-03; 8:45 am]

BILLING CODE 8025-01-P